ENVIRONMENTAL PROTECTION AGENCY

40 CFR Part 52

[EPA-R09-OAR-2022-0230; FRL-9602-01-R9]

Air Plans; Arizona; Revised Format for Materials Incorporated by Reference; Correcting Amendment

AGENCY: Environmental Protection Agency (EPA).

ACTION: Proposed rule.

SUMMARY: On November 23, 2016, the Environmental Protection Agency (EPA) issued a final rule titled “Approval and Promulgation of Implementation Plans; State of Arizona; Revised Format for Materials Incorporated by Reference.” That publication inadvertently omitted an entry for a regulation approved as part of the Maricopa County portion of the Arizona State Implementation Plan (SIP) and contained certain other errors. The EPA is proposing to correct this omission and to correct the other errors. The regulations affected by this correcting amendment have all been previously submitted by the State of Arizona and approved by the EPA.

DATES: Comments from be received on or before October 3, 2022.

ADDRESSES: Submit your comments, identified by Docket ID No. EPA-R09-OAR-2022-0230 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Kevin Gong, EPA Region IX, 75 Hawthorne St., San Francisco, CA 94105. By phone: (415) 972-3073 or by email at gong.kevin@epa.gov.

SUPPLEMENTARY INFORMATION: Throughout this document, wherever “we”, “us” or “our” are used, we mean the EPA. In the Rules and Regulations section of this Federal Register, we are correcting the omission of the Maricopa County rule and correcting the other errors in a direct final action without prior proposal because we believe this error correction action is not controversial. If we receive adverse comments, however, we will publish a timely withdrawal of the direct final rule and address the comments in a subsequent action based on this proposed rule.

We do not plan to open a second comment period, so anyone interested in commenting should do so at this time. If we do not receive adverse comments, no further activity is planned. For further information, please see the direct final action.

Dated: August 24, 2022.
Martha Guzman Aceves,
Regional Administrator, Region IX.

[FR Doc. 2022-18698 Filed 8-31-22; 8:45 am]

BILLING CODE 6560-50-P